NATIONAL CREDIT UNION ADMINISTRATION

Sunshine Act; Notice of Agency Meeting

Time and Date: 10 a.m., Thursday, July 24, 2008.

Place: Board Room, 7th Floor, Room 7047, 1775 Duke Street, Alexandria, VA 22314-3428.

Status: Open.

Matters To Be Considered:

1. Request from Horizon One Federal Credit Union to Convert to a Community Charter.

2. Quarterly Insurance Fund Report.

3. Reprogramming of NCUA's Operating Budget for 2008.

4. Proposed Rule: Parts 702 and 704 of NCUA's Rules and Regulations, Prompt Corrective Action; Amended Definition of Post-Merger Net Worth.

5. Final Interpretive Ruling and Policy Statement (IRPS) 08-1, Guidance Regarding Prohibitions Imposed by Section 205(d) of the Federal Credit Union Act.

6. Request for Board Authorization to Seek Approval for a New Agency Seal.

FOR FURTHER INFORMATION CONTACT: Mary Rupp, Secretary of the Board, Telephone: 703-518-6304.

Mary Rupp,
Secretary of the Board.

[FR Doc. E8-16810 Filed 7-23-08; 8:45 am]

BILLING CODE 7535-01-M